EXPORT-IMPORT BANK

Sunshine Act Meetings

Notice of an Open Meeting of the Board of Directors of the Export-Import Bank of the United States

TIME AND DATE: Thursday, January 14, 2021 at 1:00 p.m.

PLACE: The meeting will be held via teleconference.

STATUS: The meeting will be open to public observation for Item Number 1 only.

MATTERS TO BE CONSIDERED: State Department Vetting of EXIM Transactions.

CONTACT PERSON FOR MORE INFORMATION: Joyce B. Stone (202-257-4086). Members of the public who wish to attend the meeting via audio only teleconference should register via https://attendee.gotowebinar.com/register/7434330690988996623 by noon Wednesday, January 13, 2021. Individuals will be directed to a Webinar registration page and provided call-in information.

Joyce B. Stone,
Assistant Corporate Secretary.

[FR Doc. 2020-29156 Filed 12-30-20; 11:15 am]

BILLING CODE 6690-01-P